DEPARTMENT OF THE INTERIOR

Bureau of Land Management

[LLNM920000 L13100000 FI0000; NMNM 126063]

Notice of Proposed Reinstatement of Terminated Oil and Gas Lease NMNM 126063, NM

AGENCY: Bureau of Land Management, Interior.

ACTION: Notice.

SUMMARY: Under the provisions of the Mineral Leasing Act of 1920, as amended, the Bureau of Land Management (BLM) received a petition for reinstatement of oil and gas lease NMNM 126063 from the lessee Nadel & Gussman Permian LLC, for lands in Eddy County, New Mexico. The petition was filed on time and was accompanied by all the rentals due since the date the lease terminated under the law.

FOR FURTHER INFORMATION CONTACT: Elizabeth Rivera, Bureau of Land Management, New Mexico State Office, P.O. Box 27115, Santa Fe, New Mexico 87502-0115 or at 505-954-2162. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: No valid lease has been issued that affects the lands. The lessee agrees to new lease terms for rentals and royalties of $10 per acre, or fraction thereof, per year, and 16⅔ percent, respectively. The lessee paid the required $500 administrative fee for the reinstatement of the lease and $159 cost for publishing this Notice in the Federal Register. The lessee met all the requirements for reinstatement of the lease as set out in Section 31(d) and (e) of the Mineral Leasing Act of 1920 (30 U.S.C. 188). The BLM is proposing to reinstate lease NMNM 126063, effective the date of termination, March 1, 2012, under the original terms and conditions of the lease and the increased rental and royalty rates cited above.

Elizabeth Rivera,
Land Law Examiner, Fluids Adjudication Team.

[FR Doc. 2012-30856 Filed 12-21-12; 8:45 am]

BILLING CODE 4310-FB-P